DEPARTMENT OF ENERGY

10 CFR Part 431

[EERE-2022-BT-STD-0002]

RIN 1904-AF40

Energy Conservation Program: Energy Conservation Standards for Fans and Blowers

AGENCY: Office of Energy Efficiency and Renewable Energy, Department of Energy.

ACTION: Proposed rule; withdrawal.

SUMMARY: This document withdraws a proposed rule that was published in the Federal Register on January 19, 2024. The proposed rule would have established equipment classes and energy conservation standards for fans and blowers.

DATES: The proposed rule on energy conservation standards for fans and blowers, published in the Federal Register on January 19, 2024, at 89 FR 3714 is withdrawn on January 17, 2025.

ADDRESSES: The docket for this activity, which includes Federal Register notices, comments, and other supporting documents/materials, is available for review at www.regulations.gov/docket/EERE-2022-BT-STD-0002. The docket web page contains instructions on how to access all documents, including public comments, in the docket. All documents in the docket are listed in the www.regulations.gov index; however, not all documents listed in the index may be publicly available, such as information that is exempt from public disclosure.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Laura Zuber, U.S. Department of Energy, Office of the General Counsel, GC-33, 1000 Independence Avenue SW, Washington, DC 20585-0121. Telephone: (202) 586-4798. Email: Laura.Zuber@hq.doe.gov.

SUPPLEMENTARY INFORMATION: On January 19, 2024, the Department of Energy (“DOE”) published in the Federal Register a notice of proposed rulemaking (“NOPR”) and public meeting announcement, in which DOE proposed to establish equipment classes and energy conservation standards for fans and blowers. 89 FR 3714. Specifically, the proposed rule sought to establish energy conservation standards for two categories of fans and blowers: air circulating fans (“ACFs”) and fans and blowers that are not air circulating fans, which DOE referred to as general fans and blowers (“GFBs”). DOE proposed standards for various equipment classes of GFBs and ACFs. After review of the proposed rule and public comments, DOE has decided to withdraw the proposed rule.

DOE received significant oral and written comments on its proposed rule and technical support document from individuals, manufacturers, trade associations, utilities, efficiency advocacy organizations, and other stakeholders. Some commenters opposed the rule, citing concerns about impacts on manufacturers and the analysis underlying the proposed standards. Other commenters supported the proposed rule and highlighted the proposed rule's energy savings, emission reductions, and consumer benefits. Although DOE continues to support the intent and purpose of the proposed energy conservation standards for fans and blowers, in light of the considerable feedback received through the public comment process, the forthcoming change in Administration, and the significant resources needed to review and consider all relevant matters presented in the public comments, DOE does not believe that finalizing the proposed energy conservation standards is an efficient use of its resources at this time.

For each of these independent reasons, DOE is exercising its discretion to withdraw the proposed standards and terminate this rulemaking. DOE does not intend for a final rule to be issued on this NOPR as it will be important for the Department to be informed by updated data and public input when it in re-examines these important issues and explores options that best implement the requirements of the Energy Policy and Conservation Act (EPCA). 42 U.S.C. 6291 et seq. However, this withdrawal action does not preclude DOE from proposing energy conservation standards for fans and blowers in the future, including new standards that may be substantially identical or similar to those previously proposed. DOE notes that any future rulemaking it may undertake on this topic would similarly be subject to the notice and comment requirements of EPCA and the Administrative Procedure Act, 5 U.S.C. 551, et seq.

States are not prohibited from adopting their own energy conservation standards, including the standards proposed by DOE. DOE notes that in proposing these standards, DOE estimated that the standards would save a significant amount of energy and have significant cost savings to consumers and the nation.

Approval of the Office of the Secretary

The Secretary of Energy has approved publication of this proposed rule; withdrawal.

Signing Authority

This document of the Department of Energy was signed on January 10, 2025, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 13, 2025.
Treena V. Garrett,
Federal Register Liaison Officer, U.S. Department of Energy.

[FR Doc. 2025-00965 Filed 1-16-25; 8:45 am]

BILLING CODE 6450-01-P